DEPARTMENT OF HEALTH AND HUMAN SERVICES

Health Resources and Services Administration

Meeting Notice Correction

AGENCY: Health Resources and Services Administration (HRSA), Department of Health and Human Services.

ACTION: Meeting notice; correction.

SUMMARY: HRSA published a document in the Federal Register of December 20, 2022, concerning a meeting of the National Advisory Council on the National Health Service Corps. The document referenced a 2-day meeting scheduled on March 21, 2023, and March 22, 2023. The meeting date has been changed to a 1-day meeting and will be held on March 21, 2023, from 9:00 a.m. to 5:30 p.m. Eastern Time.

FOR FURTHER INFORMATION CONTACT: Diane Fabiyi-King, Designated Federal Official, Division of National Health Service Corps, HRSA, 5600 Fishers Lane, Room 14N23, Rockville, Maryland 20857; phone (301) 443-3609; or NHSCAdvisoryCouncil@hrsa.gov.

SUPPLEMENTARY INFORMATION:

Correction

In the Federal Register of December 20, 2022, FR Doc. 2022-27532, page 77850, column 1, section two, bullet one, change the “March 21, 2023, 9:00 a.m.-5:00 p.m. Eastern Time (ET) and March 22, 2023, 9:00 a.m.-2:00 p.m. ET” caption to read: “March 21, 2023, 9:00 a.m.-5:30 p.m. Eastern Time (ET).”

Maria G. Button,
Director, Executive Secretariat.

[FR Doc. 2023-03883 Filed 2-23-23; 8:45 am]

BILLING CODE 4165-15-P